DEPARTMENT OF TRANSPORTATION

Pipeline and Hazardous Materials Safety Administration

Hazardous Materials: Notice of Applications for Modifications to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before August 27, 2019.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on July 31, 2019.
Donald P. Burger,
Chief, General Approvals and Permits Branch.

Special Permits Data
Application number | Applicant | Regulation(s) affected | Nature of the special permits thereof
11489-M | JOYSON SAFETY SYSTEMS | 172.320, 173.56(b) | To modify the special permit to clarify origination and destination for testing and to remove the no other hazardous materials may be transported within the same cargo carrying body on a transport vehicle or freight container restriction. (modes 1, 3)
15335-M | SEASTAR CHEMICALS INC | 173.158(f)(3) | To modify the special permit to reference new, improved testing of the package. (modes 1, 2, 3)
15552-M | POLY-COAT SYSTEMS, INC | 107.503(b), 107.503(c), 173.241, 173.242, 173.243 | To modify the special permit to remove the request to get authorization from the Approvals and Permits Division before modifying, stretching or re-barreling. (mode 1)
16518-M | MIDWEST HELICOPTER AIRWAYS | 172.200, 172.301(c), 175.33 | To modify the special permit to authorize additional hazmat. (mode 4)
20396-M | HEXAGON DIGITAL WAVE LLC | 180.205(g) | To modify the special permit to authorize MA testing of certain DOT-CFFC cylinders. (modes 1, 2, 3, 4, 5)
20432-M | PROCYON-ALPHA SQUARED, INC | 172.200, 172.300, 172.400, 173.185(f) | To modify the special permit to authorize the use of QR codes for marking (modes 1, 2, 3)
20893-M | DAIMLER AG | 172.301(c), 173.220(d) | To modify the special permit to authorize the transportation in commerce of untested pre-production lithium ion batteries contained in a flammable liquid powered vehicle. (mode 4)

[FR Doc. 2019-17169 Filed 8-9-19; 8:45 am]

BILLING CODE 4909-60-P